DEPARTMENT OF COMMERCE

Bureau of Industry and Security

[Docket No. 030505114-3144-02]

Best Practices for Exporters/Re-Exporters and Trade Facilitation/Freight Forwarding Companies Regarding the Transit, Transshipment, and Reexport of Dual-Use Items; Correction

AGENCY: Bureau of Industry and Security, Department of Commerce.

ACTION: Notice of inquiry; correction.

SUMMARY: The Bureau of Industry and Security published a notice in the Federal Register of May 16, 2003 (63 FR 26567) requesting comments on the proposed “Best Practices for Exporters/Reexports and Trade Facilitation/Freight Forwarding Companies Regarding the Transit, Transshipment, and Reexport of Dual-Use Items.” That notice contained an incorrect date within which comments were to be submitted. This document corrects the date for the submission of comments.

DATES: Comments on the proposed Best Practices must be received by July 16, 2003.

ADDRESSES: Comments on the proposed Best Practices may be submitted by e-mail to rcupitt@bis.doc.gov, by fax at (202) 482-2387, or on paper to Rick Cupitt, Office of the Under Secretary for Industry and Security, Bureau of Industry and Security, Room H3898, U.S. Department of Commerce, 14th Street and Constitution Avenue, NW., Washington, DC 20230.

FOR FURTHER INFORMATION CONTACT: Rick Cupitt, Office of the Under Secretary for Industry and Security at rcupitt@bis.doc.gov or (202) 482-1459.

SUPPLEMENTARY INFORMATION: The Bureau of Industry and Security published a document in the Federal Register of May 16, 2003 (63 FR 26567), requesting comments on the proposed “Best Practices for Exporters/Reexports and Trade Facilitation/Freight Forwarding Companies Regarding the Transit, Transshipment, and Reexport of Dual-Use Items.” The notice inadvertently stated that comments were to submitted by June 16, 2003. That date was incorrect and the public is advised that the comment period will close on July 16, 2003.

Dated: June 9, 2003.
Kenneth I. Juster,
Under Secretary for Industry and Security.

[FR Doc. 03-15024 Filed 6-12-03; 8:45 am]

BILLING CODE 3510-33-M